NATIONAL FOUNDATION ON THE ARTS AND HUMANITIES

Cooperative Agreement for the Mayor's Institute on City Design

AGENCY: National Endowment for the Arts.

ACTION: Notification of availability.

SUMMARY: The National Endowment for the Arts is requesting proposals leading to one (1) award of a Cooperative Agreement to support the continuing activities of: “The Mayors' Institute on City Design.” Eligibility for award of the Cooperative Agreement is limited to 501(c)(3) organizations with national programming, a mission that includes education and advocacy regarding policies and practices affecting the design of American cities, and a national constituency. The initial Cooperative Agreement will be for one year, anticipated to commence in May of 2003. Funding of $400,000 is available through the Endowment. A match of at least 30% will be required. The Mayors' Institute on City Design is a forum designed to foster an understanding of and appreciation for the role of design in creating vibrant, livable cities, and the importance of mayors and their role as design advocates in American cities. Activities of the Mayors' Institute include workshops, newsletters, and a website. Those interested in receiving the solicitation package should reference Program Solicitation PS 03-01 in their written request and include two (2) self-addressed labels. Verbal requests for the Solicitation will not be honored. The Program Solicitation will also be posted on the Endowment's Web site at http://www.arts.gov.

DATES: Program Solicitation PS 03-01 is scheduled for release and posting on the Internet on approximately February 5, 2003. Proposals will be due on March 10, 2003.

ADDRESSES: Request for the Solicitation should be addressed to the National Endowment for the Arts, Grants & Contracts Office, Room 618, 1100 Pennsylvania Ave., NW., Washington, DC 20506.

FOR FURTHER INFORMATION CONTACT: William Hummel, Grants & Contracts Office, National Endowment for the Arts, Room 618, 1100 Pennsylvania Ave., NW., Washington, DC 20506 (202/682-5482).

William I. Hummel,
Coordinator, Cooperative Agreements and Contracts.

[FR Doc. 03-1462 Filed 1-22-03; 8:45 am]

BILLING CODE 7536-01-M